DEPARTMENT OF LABOR

Employment and Training Administration

[TA-W-80,242; TA-W-80,242A]

M/A-Com Technology Solutions, Including On-Site Leased Workers of Kelly Temps and Aerotek CE, Torrance, California; M/A-Com Technology Solutions, Including On-Site Leased Workers of Kelly Temps and Aerotek CE, Long Beach, California; Amended Certification Regarding Eligibility To Apply for Worker Adjustment Assistance

In accordance with Section 223 of the Trade Act of 1974, as amended (“Act”), 19 U.S.C. 2273, the Department of Labor issued a Certification of Eligibility to Apply for Worker Adjustment Assistance on December 18, 2012, applicable to workers of M/A-Com Technology Solutions, including on-site leased workers of Kelly Temps and Aerotek CE, Torrance, California. The Department's notice of determination was published in the Federal Register on July 29, 2011 (Volume 76 FR Pages 45622-45623).

At the request of the State Workforce Office, the Department reviewed the certification for workers of the subject firm. The workers were engaged in engaged in activities related to the production of RF power semiconductors and modules used in communications, avionics, and radar.

The State reports that the subject firm moved from 2330 Carson St., Torrance, California 90501 to 1500 Hughes Way, Suite C-100, Long Beach, California 90810.

Based on these findings, the Department is amending this certification to include workers separated from the subject firm at the Long Beach, California location.

The amended notice applicable to TA-W-82,242 is hereby issued as follows:

All workers of M/A-Com Technology Solutions, including on-site leased workers of Kelly Temps and Aerotek CE, Torrance, California (TA-W-80,242) and Long Beach, California (TA-W-80,242A) who became totally or partially separated from employment on or after June 17, 2010, through July 8, 2013, and all workers in the group threatened with total or partial separation from the date of certification through July 8, 2013, are eligible to apply for adjustment assistance under Chapter 2 of Title II of the Trade Act of 1974, as amended.”

Signed in Washington, DC this 5th day of July, 2013.
Michael W. Jaffe,
Certifying Officer, Office of Trade Adjustment Assistance.

[FR Doc. 2013-19182 Filed 8-7-13; 8:45 am]

BILLING CODE 4510-FN-P